DEPARTMENT OF HEALTH AND HUMAN SERVICES

Agency for Toxic Substances and Disease Registry

[ATSDR-243]

Availability of Two Interaction Profiles [Draft Documents]

AGENCY: Agency for Toxic Substances and Disease Registry (ATSDR), Department of Health and Human Services (DHHS).

ACTION: Notice of availability for public comments.

SUMMARY: This notice announces the availability of two interaction profiles prepared by ATSDR for public comments [draft documents].

DATES: The interaction profiles will be available to the public on or about April 15, 2008.

ADDRESSES: The documents will be available on ATSDR's Web site at http://www.atsdr.cdc.gov.

FOR FURTHER INFORMATION CONTACT: Please submit comments regarding the information contained in the profiles to Dr. Hana Pohl, Division of Toxicology and Environmental Medicine, Agency for Toxic Substances and Disease Registry, Mailstop F-32, 1600 Clifton Road, NE., Atlanta, Georgia 30333, telephone (888) 422-8737.

SUPPLEMENTARY INFORMATION: ATSDR develops interaction profiles for hazardous substances found at the National Priority List (NPL) sites under Section 104(i)(3) and (5) of the Comprehensive Environmental Response, Compensation, and Liability Act of 1980 (CERCLA). This public law mandates that ATSDR assess whether or not adequate information on health effects is available for priority hazardous substances. Where such information is not available or under development, ATSDR shall, in cooperation with the National Toxicology Program, initiate a research program to determine these health effects. The act further directs that, where feasible, ATSDR shall develop methods to determine the health effects of these priority hazardous substances in combination with other substances commonly found with them.

To carry out these legislative mandates, ATSDR has developed a chemical mixtures program. As part of the mixtures program, ATSDR developed a guidance manual that outlines the latest methods for mixtures health assessment. In addition, a series of documents called “interaction profiles” is being developed for certain priority mixtures that are of special concern to ATSDR. To recommend approaches for the exposure-based assessment of the potential hazard to public health, an interaction profile evaluates data on the toxicology of the whole priority mixture, if available, and on the joint toxic action of the chemicals in the mixture.

The entire interaction profile development process is as follows:

• ATSDR selects substances/chemicals for development of interaction profiles through inter/intra agency communications collaboration and literature reviews.

• After the selection, a letter is sent to individuals and agencies on ATSDR's mailing list providing notice of ATSDR's intent to create an interaction profile.

• A notice is posted in the Federal Register to inform the public of ATSDR's intent to develop a particular interaction profile.

• The draft interaction profile undergoes both internal and external peer review.

• A Federal Register notice announces the release of the official draft for public comment.

• ATSDR posts a link to the draft interaction profile on its Web site, giving the public an opportunity to provide comments.

• ATSDR reviews all public comments and revises the draft, as appropriate, before issuing the final version.

The following documents will be available to the public on or about April 15, 2008.

Document 1

Interaction Profile for Carbon Monoxide, Formaldehyde, Methylene Chloride, Nitrogen Dioxide, and Tetrachloroethylene.

Document 2

Interaction Profile for Chloroform, 1,1-Dichloroethylene, Trichloroethylene, and Vinyl Chloride.

Document 1 evaluates a mixture of chemicals often found in indoor air based on the information regarding residential (i.e., background) exposures provided by the U.S. Environmental Protection Agency. Data on background exposures can be used for evaluations of total exposures in populations living around hazardous waste sites.

Document 2 evaluates a mixture of volatile organic chemicals. This particular mixture was chosen as a subject for the interaction profile because these chemicals are among the top 10 chemicals found in water around hazardous waste sites. Consequently, they are also encountered in combinations.

The two interaction profiles underwent external peer review. These documents were also reviewed by the ATSDR's Interagency Workgroup on Mixtures.

The documents will be available for public comments for 90 days.

Dated: April 11, 2008.
Tim Hack,
Deputy Director, Office of Policy, Planning and Evaluation, National Center for Environmental Health/Agency for Toxic Substances and Disease Registry.

[FR Doc. E8-8167 Filed 4-17-08; 8:45 am]

BILLING CODE 4163-70-P